NUCLEAR REGULATORY COMMISSION

10 CFR Part 72

[NRC-2018-0220]

RIN 3150-AK17

List of Approved Spent Fuel Storage Casks: NAC International Multi-Purpose Canister Storage System, Certificate of Compliance No. 1025, Amendment Nos. 7 and 8

AGENCY: Nuclear Regulatory Commission.

ACTION: Direct final rule; confirmation of effective date.

SUMMARY: The U.S. Nuclear Regulatory Commission (NRC) is confirming the effective date of March 4, 2019, for the direct final rule that was published in the Federal Register on December 18, 2018. This direct final rule amended the NRC's spent fuel storage regulations by revising the “List of approved spent fuel storage casks” to include Amendment Nos. 7 and 8 to Certificate of Compliance No. 1025 for the NAC International Multi-Purpose Canister (NAC-MPC) Storage System.

DATES: Effective Date: The effective date of March 4, 2019, for the direct final rule published December 18, 2018 (83 FR 64729), is confirmed.

ADDRESSES: Please refer to Docket ID NRC-2018-0220 when contacting the NRC about the availability of information for this action. You may obtain publicly-available information related to this action by any of the following methods:

• Federal Rulemaking Website: Go to http://www.regulations.gov and search for Docket ID NRC-2018-0220. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate, the proposed changes to the technical specifications, and the preliminary safety evaluation report are available in ADAMS under Accession No. ML18255A021. The final amendments to the certificate, final changes to the technical specifications, and final safety evaluation reports can be viewed in ADAMS under Accession Nos. ML19038A249 for Amendment No. 7 and ML19039A088 for Amendment No. 8.

• NRC's PDR: You may examine and purchase copies of public documents at the NRC's PDR, Room O1-F21, One White Flint North, 11555 Rockville Pike, Rockville, Maryland 20852.

FOR FURTHER INFORMATION CONTACT: Bernard H. White, Office of Nuclear Material Safety and Safeguards; telephone: 301-415-6577; email: Bernard.White@nrc.gov or Gregory Trussell, Office of Nuclear Material Safety and Safeguards; telephone: 301-415-6244; email: Gregory.Trussell@nrc.gov. Both are staff of the U.S. Nuclear Regulatory Commission, Washington, DC 20555-0001.

SUPPLEMENTARY INFORMATION: On December 18, 2018 (83 FR 64729), the NRC published a direct final rule amending its regulations in part 72 of title 10 of the Code of Federal Regulations by revising the “List of approved spent fuel storage casks” to include Amendment Nos. 7 and 8 to Certificate of Compliance No. 1025 for the NAC-MPC Storage System. Amendment No. 7 revises the technical specifications to eliminate the requirements for the heat removal system to be operable for La Crosse Boiling Water Reactor spent fuel stored in the NAC-MPC because convective cooling is not required, and to eliminate duplicative requirements. In addition, Amendment No. 8 removes duplicative surveillance requirements in the technical specifications because these requirements are already required by the revised Technical Specification A 3.1.6, “CONCRETE CASK Heat Removal System.”

In the direct final rule, the NRC stated that if no significant adverse comments were received, the direct final rule would become effective on March 4, 2019. As described more fully in the direct final rule, a significant adverse comment is a comment where the commenter explains why the rule would be inappropriate, including challenges to the rule's underlying premise or approach, or would be ineffective or unacceptable without a change. Because no significant adverse comments were received, the direct final rule will become effective as scheduled.

Dated at Rockville, Maryland, this 12th day of February 2019.
For the Nuclear Regulatory Commission.
Cindy K. Bladey,
Chief, Regulatory Analysis and Rulemaking Support Branch, Division of Rulemaking, Office of Nuclear Material Safety and Safeguards.

[FR Doc. 2019-02599 Filed 2-15-19; 8:45 am]

BILLING CODE 7590-01-P